DEPARTMENT OF COMMERCE

National Oceanic and Atmospheric Administration

[I.D. 020602E]

South Atlantic Fishery Management Council; Public Meetings

AGENCY: National Marine Fisheries Service (NMFS), National Oceanic and Atmospheric Administration (NOAA), Commerce.

ACTION: Notice of public meetings.

SUMMARY: The South Atlantic Fishery Management Council (Council) will hold meetings of its Advisory Panel Selection Committee, Scientific and Statistical Selection Committee, Executive Committee, Dolphin Wahoo Committee, Calico Scallop Committee, Snapper Grouper Committee and a joint meeting of the Snapper Grouper Committee and the Wreckfish Advisory Panel, Habitat Committee, and Shrimp Committee. Public comment periods will be held during some of the meetings. There will also be a full Council Session.

DATES: The meetings will be held March 4-8, 2002. See SUPPLEMENTARY INFORMATION for specific dates and times.

ADDRESSES: The meetings will be held at the Hilton Savannah DeSoto, 15 East Liberty Street, Savannah, GA 31401; telephone: (1-800) 426-8483 or (912) 232-9000.

Copies of documents are available from Kim Iverson, Public Information Officer, and South Atlantic Fishery Management Council, One Southpark Circle, Suite 306, Charleston, SC 29407-4699.

FOR FURTHER INFORMATION CONTACT: Kim Iverson, Public Information Officer; telephone: 843-571-4366; fax: 843-769-4520; email: kim.iverson@noaa.gov.

SUPPLEMENTARY INFORMATION:

Meeting Dates

1. Advisory Panel Selection Committee: March 4, 2002, 1:30 p.m. - 3 p.m.

The Advisory Panel Selection Committee will meet in a closed session to review membership applications and develop recommendations. The Advisory Panel Selection Committee will meet in open session to discuss establishing a new Information and Education Advisory Panel.

2. Scientific and Statistical Selection Committee Meeting: March 4, 2002, 3 p.m. - 4 p.m.

The Scientific and Statistical Selection Committee will meet in a closed session to review candidates for appointment to the Scientic and Statistical Committee (SSC) and develop recommendations.

3. Executive Committee Meeting: March 4, 2002, 4 p.m. - 5:30 p.m.

The Executive Committee will meet to review the NMFS/Council Operations Plan, the new NMFS/Council Assessment Peer Review Process, the status of Magnuson-Stevens Fishery Conservation and Management Act (MSFCMA) reauthorization, and the results from the Executive Directors/NOAA/NMFS meeting. The Executive Committee will also review and approve the Council's Calendar Year (CY) 2002 activities schedule.

4. Dolphin Wahoo Committee Meeting: March 5, 2002, 8:30 a.m. to 10:30 a.m.

The Dolphin Wahoo Committee will meet to review comments on the Draft Fishery Management Plan (FMP) and Draft Environmental Impact Statement (DEIS) regarding the dolphin wahoo fishery. The Committee will review and approve changes to the document. The Dolphin Wahoo Committee will also review the Biological Evaluation and the timeline for completion of the FMP/Final Environmental Impact Statement (FEIS).

5. Calico Scallop Committee Meeting: March 5, 2002, 10:30 a.m. to 12 noon.

The Calico Scallop Committee will meet to review the Section 7 process regarding the FMP for the calico scallop fishery. The Committee will discuss any changes to the FMP that may be necessary and approve the DEIS for review. The Committee will also discuss the timeline for completion of the FMP/FEIS.

6. Joint Snapper Grouper Committee and Wreckfish Advisory Panel Meeting: March 5, 2002, 1:30 p.m.to 5 p.m. and Snapper Grouper Committee Meeting March 6, 2002, 8:30 a.m. to 12 noon.

A public scoping meeting will be held during the committee meeting on: (1) Amendment 13 (maximum sustainable yield (MSY), optimum yield (OY), Overfishing Levels, etc.) and (2) Amendment 14 (Marine Protected Areas). Documents regarding these issues are available from the Council office (see ADDRESSES). The Snapper Grouper Committee and Wreckfish Advisory Panel will meet to review and comment on the following: Status of Wreckfish Stock, Status of Wreckfish Research, Potential Framework Changes (e.g., total allowable catch, closures, etc.), and Wreckfish Items in the Options Paper for Snapper Grouper Amendment 13 (MSY, OY, Overfishing levels, and Collecting Fees for Individual Transferable Quota Programs). The Snapper Grouper Committee will meet to review Proposed actions for Amendment 13 to the Snapper Grouper Fishery Management Plan including permit transfers, snowy grouper and golden tilefish management, prohibition of the sale of mutton snapper in May and June, review of stock status for speckled hind and warsaw grouper and evaluation of current regulations, spawning site closures and other measures. The Committee will also review possible sites for marine protected areas (Amendment 14).

7. Habitat Committee Meeting: March 6, 2002, 1:30 p.m. to 5:30 p.m.

A public hearing will be held during the committee meeting on the Draft Supplemental Environmental Impact Statement (DSEIS) regarding the Sargassum FMP. Documents regarding the Sargassum FMP are available from the Council office (see ADDRESSES). The Habitat Committee will meet to review comments received on the DEIS regarding the Sargassum FMP, approve the Final Sargassum FMP/FEIS for review by the Secretary of Commerce, review the workshop process to update essential fish habitat information, and address Ecosystem FMP issues.

8. Shrimp Committee Meeting: March 7, 2002, 8:30 a.m. to 12 noon.

A public scoping meeting will be held during the committee meeting on Amendment 6 to address (1) Sustainable Fisheries Act Criteria (MSY, OY, Overfishing Levels, etc.) and (2) Potential Modification to the Bycatch Reduction Device (BRD) Protocol. Documents regarding these issues are available from the Council office (see ADDRESSES). The Shrimp Committee will meet to review the status of Shrimp Amendment 5 and to review options for Shrimp Amendment 6 addressing the BRD Protocol, MSY, OY, and Overfishing levels.

9. Council Session: March 7, 2002, 1:30 p.m. to 5:30 p.m. and March 8, 2002, 8:30 a.m. to 11:30 a.m.

From 1:30 p.m. - 1:45 p.m., the Council will have a Call to Order, introductions and roll call, adoption of the agenda, and approval of the December 2001 meeting minutes.

From 1:45 p.m. - 2:45 p.m., the Council will hear a report from the Habitat Committee regarding the Sargassum FMP/FEIS. Public comment will be allowed, and the Council will approve the final Sargassum FMP/FEIS for formal review by the Secretary of Commerce.

From 2:45 p.m. - 3:15 p.m., the Council will hear a report from the Snapper Grouper Committee regarding Amendments 13 (MSY, OY, Overfishing, etc.) and 14 (marine protected area sites). Public comment will be allowed on any potential wreckfish framework changes, and the Council will approve any necessary framework changes for the wreckfish fishery.

From 3:15 p.m. - 3:45 p.m., the Council will hear a report from the Shrimp Committee concerning options for Amendment 6.

From 3:45 p.m. - 4:15 p.m., the Council will hear a report from the Dolphin Wahoo Committee and approve any necessary changes to the FMP.

From 4:15 p.m. - 4:45 p.m., the Council will hear a report from the Calico Scallop Committee and approve the DEIS for review.

From 4:45 p.m. - 5 p.m., the Council will hear a report from the Advisory Panel Selection Committee, appoint new members to the advisory panels, and establish a new Information and Education Advisory Panel.

On March 8th, from 8:30 a.m. - 8:45 a.m., the Council will hear a report from the Scientific and Statistical Selection Committee and revise the SSC membership.

From 8:45 a.m. - 9:15 a.m., the Council will hear a report from the Executive Committee and approve the Council's CY 2002 Activities Schedule and Operations Plan.

From 9:15 a.m. - 9:45 a.m., the Council will hear a report on the status of the NMFS Southeast Fisheries Science Center activities.

From 9:45 a.m. - 10 a.m., the Council will hear a report on the status of Atlantic Coastal Cooperative Statistics Program.

From 10 a.m. - 10:30 a.m., the Council will hear a report from NOAA General Counsel on the status of the management unit in the New England Fishery Management Council’s Red Crab FMP and potential impacts on the South Atlantic Fishery Management Council’s Golden Crab FMP and the status of the allowable gear rule change request.

From 10:30 a.m. - 10:45 a.m., the Council will hear a status report from NMFS on Golden Crab Amendment 3. The Council will also hear NMFS status reports on landing for Atlantic king mackerel, Gulf king mackerel (eastern zone), Atlantic Spanish mackerel, snowy grouper and golden tilefish, wreckfish, greater amberjack and south Atlantic octocorals.

From 10:45 p.m. - 11:30 a.m., the Council will hear Agency and Liaison Reports, discuss other business and upcoming meetings.

Although non-emergency issues not contained in this agenda may come before this Council for discussion, those issues may not be the subjects of formal Council action during this meeting. Council action will be restricted to those issues specifically listed in this notice and any issues arising after publication of this notice that require emergency action under section 305 (c) of the Magnuson-Stevens Act, provided the public has been notified of the Council’s intent to take final action to address the emergency.

Special Accommodations

These meetings are physically accessible to people with disabilities. Requests for sign language interpretation or other auxiliary aids should be directed to the Council office (see ADDRESSES) by February 25, 2002.

Dated: February 12, 2002.
Richard W. Surdi,
Acting Director, Office of Sustainable Fisheries, National Marine Fisheries Service.

[FR Doc. 02-3814 Filed 2-14-02; 8:45 am]

BILLING CODE 3510-22-S